DEPARTMENT OF COMMERCE

National Oceanic and Atmospheric Administration

[I.D. 042803H]

North Pacific Fishery Management Council; Public Meeting

AGENCY: National Marine Fisheries Service (NMFS), National Oceanic and Atmospheric Administration (NOAA), Commerce.

ACTION: Notice of a committee meeting.

SUMMARY: The North Pacific Fishery Management Council's (Council) Pacific Northwest Crab Industry Advisory Committee (PNCIAC) are scheduled to meet.

DATES: The meeting will be held on May 27, 2003.

ADDRESSES: The meeting will be held at NMFS Alaska Fishery Science Center, 7600 Sand Point Way NE, Building 4, Room 2076 (Jim Traynor Seminar Room) Seattle, WA 99115.

Council address: North Pacific Fishery Management Council, 605 W. 4th Ave., Suite 306, Anchorage, AK 99501-2252.

FOR FURTHER INFORMATION CONTACT: Diana Stram, Council Staff: 907-271-2809

SUPPLEMENTARY INFORMATION: On Tuesday the 27th of May, the committee will meet at 9 a.m. The committee will discuss and make recommendations on the following items: the PNCIAC request to adjust the 2003 Opilio Guideline Harvest Level; a definition of what PNCIAC's “consultative role” actually means; Opilio Spawning Biomass estimates; evaluation of harvest strategies for Bristol Bay Red King Crabs; the development of biological reference points; and other new business.

Although non-emergency issues not contained in this agenda may come before this group for discussion, those issues may not be the subject of formal action during this meeting. Action will be restricted to those issues specifically identified in this notice and any issues arising after publication of this notice that require emergency action under section 305(c) of the Magnuson-Stevens Fishery Conservation and Management Act, provided the public has been notified of the Council's intent to take final action to address the emergency.

Special Accommodations

This meeting is physically accessible to people with disabilities. Requests for sign language interpretation or other auxiliary aids should be directed to Gail Bendixen, 907-271-2809, at least 5 working days prior to the meeting date.

Dated: April 29, 2003.
Matteo J. Milazzo,
Acting Director, Office of Sustainable Fisheries, National Marine Fisheries Service.

[FR Doc. 03-11057 Filed 5-2-03; 8:45 am]

BILLING CODE 3510-22-S